DEPARTMENT OF THE INTERIOR

Bureau of Land Management

[SDM 99842]

Notice of Proposed Withdrawal and Opportunity for Public Meeting; South Dakota

AGENCY: Bureau of Land Management, Interior.

ACTION: Notice.

SUMMARY: The United States Department of Agriculture (USDA) Forest Service has filed an application with the Bureau of Land Management (BLM) requesting that the Secretary of the Interior withdraw 50 acres of National Forest System land from mining to protect the recreational uses and improvements within this portion of the Steamboat Rock Picnic Grounds. This notice also gives an opportunity to comment on the proposed action and to request a public meeting.

DATES: Comments and requests for a public meeting must be received by December 9, 2010.

ADDRESSES: Comments and meeting requests should be sent to the Forest Supervisor, Black Hills National Forest, 1019 North 5th Street, Custer, South Dakota 57730 or the BLM Montana State Director, 5001 Southgate Drive, Billings, Montana 59101.

FOR FURTHER INFORMATION CONTACT: Valerie Hunt, Forest Service, Rocky Mountain Region, 303-275-5071 or Sandra Ward, BLM Montana State Office, 406-896-5052.

SUPPLEMENTARY INFORMATION: The USDA Forest Service has filed an application with the BLM pursuant to Section 204 of the Federal Land Policy and Management Act of 1976, 43 U.S.C. 1714, to withdraw the following-described National Forest System land within the Black Hills National Forest from location or entry under the United States mining laws (30 U.S.C. Ch. 2) for a period of 20 years, subject to valid existing rights:

Black Hills National Forest

Black Hills Meridian

Steamboat Picnic Grounds

T. 2 N., R. 5 E.,

Sec. 1, S½NW¼SW¼, N½SW¼SW¼, and NW¼SE¼SW¼.

The area described contains 50 acres in Lawrence County.

The purpose of the proposed withdrawal is to protect the recreational uses and improvements within this portion of the Steamboat Rock Picnic Grounds.

The use of a right-of-way or cooperative agreement would not provide adequate protection of the Federal investment in improvements and current uses in this area due to the broad scope and nondiscretionary nature of the general mining laws.

No alternative sites are feasible due to the specific uses and improvements already in place.

No water will be needed to fulfill the purpose of the requested withdrawal.

For a period of 90 days from the date of publication of this notice, all persons who wish to submit comments, suggestions, or objections in connection with the proposed withdrawal may present their views in writing to the Forest Supervisor, Black Hills National Forest, P.O. Box 948, Glenwood Springs, Colorado 81602.

Records related to the application, as well as comments, including names and street addresses of respondents, will be available for public review at the Forest Supervisor's Office, Black Hills National Forest, P.O. Box 948, 900 Grand Avenue, Glenwood Springs, Colorado 81602, during regular business hours.

Individual respondents may request confidentiality. Before including your address, phone number, e-mail address, or other personal identifying information in your comment, be advised that your entire comment—including your personal identifying information—may be made publicly available at any time. While you can ask us in your comment to withhold from public review your personal identifying information, we cannot guarantee that we will be able to do so. If you wish to withhold your name or address from public review or from disclosure under the Freedom of Information Act, you must state this prominently at the beginning of your comments. Such requests will be honored to the extent allowed by law. All submissions from organizations or businesses, and from individuals identifying themselves as representatives or officials of organization or businesses, will be made available for public inspection in their entirety.

Notice is hereby given that an opportunity for a public meeting is afforded in connection with the proposed withdrawal. All interested persons who desire a public meeting for the purpose of being heard on the proposed withdrawal must submit a written request to the Forest Supervisor's Office within 90 days from the date of publication of this notice. Upon determination by the authorized officer that a public meeting will be held, a notice of the time and place will be published in the Federal Register and in at least one local newspaper no less than 30 days before the scheduled date of the meeting.

For a period of 2 years from the date of publication of this notice in the Federal Register, the land will be segregated from location or entry under the United States mining laws, unless the application is denied or canceled or the withdrawal is approved prior to that date. The land will remain open to other uses within the statutory authority pertinent to National Forest System lands and subject to discretionary approval.

The application will be processed in accordance with the regulations set forth in 43 CFR 2300.

(Authority: 43 CFR 2310.3-1(b))

Cynthia Staszak,
Chief, Branch of Land Resources.

[FR Doc. 2010-22608 Filed 9-9-10; 8:45 am]

BILLING CODE 3410-11-P